DEPARTMENT OF LABOR

Employment and Training Administration

[TA-W-91,567; TA-W-91,567A]

Titan Tire Corporation of Bryan, a Subsidiary of Titan International, Inc., Bryan, Ohio; Per Mar Security Services and Elwood Staffing Working On-Site at Titan Tire Corporation of Bryan, a Subsidiary of Titan International, Inc., Bryan, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on June 7, 2016, applicable to workers of Titan Tire Corporation of Bryan, a subsidiary of Titan International, Inc., including on-site leased workers from Per Mar Security Services and Elwood Staffing, Bryan, Ohio. The Department's notice of determination was published in the Federal Register on July 18, 2016 (81 FR 46706).

At the request of a state workforce office, the Department reviewed the certification for workers of the subject firm. The workers are engaged in production of construction and mining tires.

The review shows that on June 7, 2016, a certification of eligibility to apply for adjustment assistance was issued for all workers of Titan Tire Corporation of Bryan, a subsidiary of Titan International, Inc., including on-site leased workers from Per Mar Security Services and Elwood Staffing, Bryan, Ohio, separated, or threatened with worker separations on or after March 8, 2015 through June 7, 2018.

In order to avoid an overlap in worker group coverage, the Department is amending the March 8, 2015 impact date established for TA-W-91,567, to read February 20, 2016 (TA-W-91,567) and March 8, 2015 (TA-W-91,567A).

The amended notice applicable to TA-W-91,567 is hereby issued as follows:

All workers of Titan Tire Corporation of Bryan, a subsidiary of Titan International, Inc., Bryan, Ohio (TA-W-91,567), who became totally or partially separated from employment on or after February 20, 2016 through June 7, 2018, and all workers in the group threatened with total or partial separation from employment on the date of certification through two years from the date of certification, are eligible to apply for adjustment assistance under Chapter 2 of Title II of the Trade Act of 1974, as amended;

AND,

All workers of Per Mar Security Services and Elwood Staffing, working on-site at Titan Tire Corporation of Bryan, a subsidiary of Titan International, Inc., Bryan, Ohio (TA-W-91,567A), who became totally or partially separated from employment on or after March 8, 2015 through June 7, 2018, and all workers in the group threatened with total or partial separation from employment on the date of certification through two years from the date of certification, are eligible to apply for adjustment assistance under Chapter 2 of Title II of the Trade Act of 1974, as amended.

Signed in Washington, DC, this 22nd day of September, 2016.
Hope D. Kinglock,
Certifying Officer, Office of Trade Adjustment Assistance.

[FR Doc. 2016-26996 Filed 11-8-16; 8:45 am]

BILLING CODE P